DEPARTMENT OF DEFENSE

Office of the Secretary

[Transmittal No. 24-72]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-72, Policy Justification, and Sensitivity of Technology.

Dated: November 14, 2025.
Aaron T. Siegel,
Alternate OSD Federal Register Liaison Officer, Department of Defense.

BILLING CODE 6001-FR-P

BILLING CODE 6001-FR-C

Transmittal No. 24-72

Notice of Proposed Issuance of Letter of Offer

Pursuant to Section 36(b)(1)

of the Arms Export Control Act, as Amended

(i) Prospective Purchaser: Government of Bulgaria

(ii) Total Estimated Value:

Major Defense Equipment * | $ 79 million
Other | $ 35 million
TOTAL | $114 million

Funding Source: National Funds

(iii) Description and Quantity or Quantities of Articles or Services under Consideration for Purchase:

Major Defense Equipment (MDE):

Two hundred eighteen (218) Javelin FGM-148F missiles (includes four (4) fly-to-buy missiles)

One hundred seven (107) Javelin Lightweight Command Launch Units (LWCLU)

Non-Major Defense Equipment: The following non-MDE items will also be included: Javelin LWCLU Basic Skills Trainers (BST); Javelin Outdoor Trainers (JOT); Battery Coolant Units (BCUs); System Integration and Check Out (SICO); lifecycle support; Javelin Restricted Interactive Electronic Technical Manual (IETM); Javelin operator manuals; tools; Javelin gunner training; Ammunition Technical Officer (ATO) training; Javelin maintenance training; technical assistance; other associated equipment and services; and other related elements of logistics and program support.

(iv) Military Department: Army (BU-B-UCQ)

(v) Prior Related Cases, if any: BU-B-UCP, BU-B-UCS

(vi) Sales Commission, Fee, etc., Paid, Offered, or Agreed to be Paid: None

(vii) Sensitivity of Technology Contained in the Defense Article or Defense Services Proposed to be Sold: See Attached Annex

(viii) Date Report Delivered to Congress: September 20, 2024

* as defined in Section 47(6) of the Arms Export Control Act.

POLICY JUSTIFICATION

Bulgaria—FGM-148F Javelin Missiles

The Government of Bulgaria has requested to buy two hundred eighteen (218) Javelin FGM-148F missiles (includes four (4) fly-to-buy missiles) and one hundred seven (107) Javelin Lightweight Command Launch Units (LWCLU). Also included are Javelin LWCLU Basic Skills Trainers (BST); Javelin Outdoor Trainers (JOT); Battery Coolant Units (BCUs); System Integration and Check Out (SICO); lifecycle support; Javelin Restricted Interactive Electronic Technical Manual (IETM); Javelin operator manuals; tools; Javelin gunner training; Ammunition Technical Officer (ATO) training; Javelin maintenance training; technical assistance; other associated equipment and services; and other related elements of logistics and program support. The estimated total cost is $114 million.

This proposed sale will support the foreign policy and national security objectives of the United States by helping to improve the security of a NATO Ally that is an important force for political and economic stability in Europe.

The proposed sale will improve Bulgaria's long-term defense capacity to defend its sovereignty and territorial integrity and to meet its national defense requirements. Bulgaria will have no difficulty absorbing this equipment into its armed forces.

The proposed sale of this equipment and support will not alter the basic military balance in the region.

The prime contractors will be the Javelin Joint Venture between Lockheed Martin, located in Orlando, FL, and RTX Corporation, located in Tucson, AZ. There are no known offset agreements in connection with this potential sale.

Implementation of this proposed sale will not require the assignment of U.S. Government or contractor representatives to Bulgaria.

There will be no adverse impact on U.S. defense readiness as a result of this proposed sale.

Transmittal No. 24-72

Notice of Proposed Issuance of Letter of Offer

Pursuant to Section 36(b)(1)

of the Arms Export Control Act

Annex

Item No. vii

(vii) Sensitivity of Technology:

1. The Javelin Weapon System is a medium-range, man portable, shoulder-launched, fire and forget anti-tank system for infantry, scouts, and combat engineers. It may also be mounted on a variety of platforms including vehicles, aircraft, and watercraft. The system weighs 49.5 pounds and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and direct fire modes, an advanced tandem warhead and imaging infrared seeker, target lock-on before launch, and the capability for soft launch from enclosures or covered fighting positions. The Javelin missile also has a minimum smoke motor that decreases its visibility and chance of detection on the battlefield.

3. The Javelin Weapon System is comprised of two major tactical components, the reusable Light Weight Command Launch Unit (LWCLU) and a missile contained in a disposable launch tube assembly. The LWCLU incorporates an integrated day-night sight that provides target engagement capability in adverse weather and countermeasure environments. The LWCLU may also be used in a stand-alone mode for battlefield surveillance and target detection. The LWCLU's thermal sight is a 3rd generation Forward Looking Infrared (FLIR) sensor. To facilitate initial loading and subsequent updating of software, all on-board missile software is uploaded via the LWCLU after mating and prior to launch.

4. The missile is autonomously guided to the target using an imaging infrared seeker and adaptive correlation tracking algorithms. This allows the gunner to take cover or reload and engage another target after firing a missile. The missile has an advanced tandem warhead and can be used in either the top attack or direct fire modes (for targets under cover). An onboard flight computer guides the missile to the selected target.

5. The highest level of classification of defense articles, components, and services included in this potential sale is SECRET.

6. If a technologically advanced adversary obtains knowledge of the specific hardware and software elements, the information could be used to develop countermeasures or equivalent systems that might reduce weapon system effectiveness or be used in the development of a system with similar or advanced capabilities.

7. A determination has been made that Bulgaria can provide substantially the same degree of protection for the sensitive technology being released as the U.S. Government. This proposed sale is necessary to further the U.S. foreign policy and national security objectives outlined in the Policy Justification.

8. All defense articles and services listed on this transmittal are authorized for release and export to the Government of Bulgaria.

[FR Doc. 2025-20420 Filed 11-19-25; 8:45 am]

BILLING CODE 6001-FR-P